DEPARTMENT OF THE INTERIOR

National Park Service

[NPS-WASO-CONC-22069; PPWOBSADC0, PPMVSCS1Y.Y00000]

Sole-Source Concession Contract for Lake Mead National Recreation Area

AGENCY: National Park Service, Interior.

ACTION: Notice of proposed award of sole-source concession contract for Lake Mead National Recreation Area.

SUMMARY: Public notice is hereby given that the National Park Service proposes to award a sole-source concession contract for the conduct of certain visitor services within Lake Mead National Recreation Area (Lake Mead NRA) for a term not to exceed five (5) years. The visitor services include the provision of wireless Internet access within remote but developed areas of Lake Mead NRA.

DATES: The term of the sole-source concession contract will commence (if awarded) no earlier than sixty (60) days from the publication of this notice.

SUPPLEMENTARY INFORMATION: The Director of the National Park Service (NPS) may award a concession contract non-competitively upon a determination that extraordinary circumstances exist under which compelling and equitable considerations require the award of the concession contract to a particular qualified person in the public interest (36 CFR 51.25). Contracts that are awarded non-competitively pursuant to 36 CFR 51.25 are commonly referred to as “sole-source” contracts.

The NPS has determined that BladeBeam, Inc. is a “qualified person” as defined by 36 CFR 51.3, and has determined that compelling and equitable considerations exist because of the difficulty of providing wireless Internet in the remote but developed areas of Lake Mead NRA, and because BladeBeam, Inc. is willing to make a significant investment with no guaranteed return.

The NPS has determined that a sole-source concession contract is in the public interest because it is the authorization most likely to allow a pilot test of providing wireless Internet services in remote but developed areas of Lake Mead NRA.

This is not a request for proposals. The NPS is seeking approval from the Principal Deputy Assistant Secretary for Fish and Wildlife and Parks contemporaneously.

Dated: October 20, 2016.
Michael Reynolds,
Deputy Director, National Park Service.

[FR Doc. 2016-26915 Filed 11-7-16; 8:45 am]

BILLING CODE 4312-52-P